DELAWARE RIVER BASIN COMMISSION

Notice of Commission Meeting and Public Hearing

Notice is hereby given that the Delaware River Basin Commission (“Commission”) will hold an informal conference followed by a public hearing on Wednesday, October 16, 2002. The hearing will be part of the Commission's regular business meeting. Both the conference session and business meeting are open to the public and will be held at the Commission offices at 25 State Police Drive, West Trenton, New Jersey.

The conference among the Commissioners and staff will begin at 9:30 a.m. Topics of discussion include: a presentation on “Green Infrastructure” by a spokesperson of the Regional Planning Partnership; a presentation on the Filtration Avoidance Determination for the New York City Catskill-Delaware Water Supply System by a spokesperson of the U.S. Environmental Protection Agency; an update on development of the Commission's new Comprehensive Plan; a discussion regarding a Memorandum of Agreement between the Commission and the National Park Service for the development of a Tri-State Watershed Management Area Plan for the Delaware Water Gap Recreation Area; a presentation on the Commission's 2002 305(b) Water Quality Assessment Report; a status report on the PCB TMDL for the Delaware Estuary; a discussion regarding a resolution to amend the Comprehensive Plan and Water Code relating to the operation of Lake Wallenpaupack during drought watch, drought warning and drought conditions; and a discussion of emergency waivers requested by United Water Delaware and Pennsylvania-American Water Company and proposed docket revisions related thereto.

The subjects of the public hearing to be held during the 1:30 p.m. business meeting include, in addition to the dockets listed below, a resolution amending United Water Delaware's Docket D-96-50 CP by the addition of a new condition “m;” a resolution regarding a request by the Pennsylvania-American Water Company for emergency relief from condition “e” of Docket D-86-82 CP concerning conservation releases from Rock Run Reservoir and to amend Docket D-96-16 CP by the addition of a new condition “s;” a resolution regarding a request by the Pennsylvania American Water Company and the Chester County Water Resources Authority for emergency relief from condition “d” of Docket D-87-35 CP; and a resolution amending the Comprehensive Plan and Water Code relating to the Lake Wallenpaupack Drought Operating Plan.

The dockets scheduled for public hearing are as follows:

1. Unitech Services Group, Inc. D-99-7. A project to construct a new outfall from the applicant's existing tertiary treatment plant to discharge 0.08 million gallons per day (mgd) of treated industrial laundry wastewater to the Schuylkill River in Royersford Borough, Montgomery County, Pennsylvania. The treated effluent is currently routed to the Royersford Borough sewage treatment plant (STP). The project will enable the STP to receive additional flow from development within its service area.

2. Burlington Township D-99-50 CP. A ground water withdrawal project to supply up to 25.95 mg/30 days of water to the applicant's distribution system from new Well No. 7 and to increase the withdrawal limit from all wells from 98.2 mg/30 days to 113 mg/30 days. The project is located in the Assiscunk and Delaware River Watersheds in Burlington Township, Burlington County, New Jersey.

3. East Goshen Municipal Authority D-2000-30 CP. A project to expand the applicant's existing Ridley Creek secondary treatment 0.4 mgd STP to 0.75 mgd. The STP is located approximately 600 feet southeast of the intersection of Route 352 and Boot Road in East Goshen Township, Chester County, Pennsylvania and will continue to serve portions of East Goshen and Willistown Townships, both in Chester County, Treated effluent will continue to discharge to the non-tidal portion of Ridley Creek, a tributary of the Delaware River.

However, up to 0.135 mgd of treated effluent will be seasonally utilized for irrigation of the proposed Applebrook Golf Course to be located on the former Smith-Kline-Beecham/Pfizer tract in East Goshen Township.

4. Summit Management & Utilities, Inc. D-2001-56 CP. A ground water withdrawal project to supply up to 14 mg/30 days of water to both the applicant's water supply distribution system and for golf course irrigation from new Well No. 3, in the Polar Gap Member of the Catskill Formation, and to limit the total allocation from existing Wells Nos. 1 and 2 and New Well No. 3 to 22.4 mg/30 days. Irrigation of the golf course will be sourced from both Well No. 3 and wastewater effluent from an existing STP. The project is located in the Tunkhannock Creek Watershed in Kidder Township, Carbon County, Pennsylvania.

5. Jeffsonville Golf Course D-2002-30 CP. A ground water withdrawal project to supply up to 8.64 mg/30 days of water to the applicant's golf course from new Wells Nos. PW-1 and PW-3 in the Stockton Formation, and to limit the existing withdrawal from all wells to 8.64 mg/30 days. The project is located in the Indian Creek Watershed in West Norriton Township, Montgomery County, in the Southeastern Pennsylvania Ground Water Protected Area.

6. Waymart Area Authority D-2002-32 CP. A project to expand a 0.21 mgd STP to process 0.715 mgd, while continuing to provide tertiary treatment. The expanded plant will serve Waymart Borough and a portion of Canaan Township, both in Wayne County, Pennsylvania. The project is located on the northern shore of Lake Ledore, approximately one mile southeast of the intersection of Interstate Highway 6 and State Route 296. Treatment plant effluent will continue to be discharged to Van Auken Creek in the drainage area of the Delaware River Basin Commission Special Protection Waters, but a new outfall will be provided.

In addition to the public hearing items, the Commission will address the following at its 1:30 p.m. business meeting. Minutes of the August 28, 2002 business meeting; announcements; a report on Basin hyrologic conditions; a report by the Executive Director; a report by the Commission's General Counsel; a resolution concerning the drought emergency declared by the Commission on December 18, 2001; and a resolution authorizing the Executive Director to enter into an agreement with the National Park Service for Development of a Tri-State Watershed Management Plan for the Delaware Water Gap National Recreation Area. The meeting will conclude with an opportunity for public dialogue.

The Commission's draft dockets and draft resolutions scheduled for public hearing on October 16, 2002 are posted on the Commission's web site, http://www.drbc.net, where they can be accessed through the Notice of Commission Meeting and Public Hearing. Documents relating to the dockets and other items may be examined at the Commission's offices. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary directly at 609-883-9500 ext. 203 or through the Telecommunications Relay Services (TRS) at 711, to discuss how the Commission may accommodate your needs.

Dated: October 1, 2002.
Pamela M. Bush,
Commission Secretary.

[FR Doc. 02-25441 Filed 10-4-02; 8:45 am]

BILLING CODE 6360-01-M